DEPARTMENT OF ENERGY

Federal Energy Regulatory Commission

Notice of Settlement Agreement and Soliciting Comments

September 15, 2004.

Take notice that the following settlement agreement has been filed with the Commission and is available for public inspection.

a. Type of Application: Settlement Agreement.

b. Project No.: 2105-089.

c. Date filed: April 30, 2004.

d. Applicant: Pacific Gas and Electric Company.

e. Name of Project: Upper North Fork Feather River Project.

f. Location: On the North Fork Feather River, in the vicinity of the community of Chester, Plumas County, California, T28N, R7E. The project occupies 1,500 acres of land administered by the Forest Supervisors of the Lassen and Plumas National Forests.

g. Filed Pursuant to: Rule 602 of the Commission's Rules of Practice and Procedure, 18 CFR 385.602.

h. Applicant Contact: Mr. Randal Livingston, Lead Director, Hydro Generation Department, Pacific Gas and Electric Company, P.O. Box 770000, N11C, San Francisco, CA 94177, (415) 973-6950.

i. FERC Contact: Any questions concerning this notice should be addressed to John Mudre, e-mail address john.mudre@ferc.gov, or telephone (202) 502-8902.

j. Deadline for Filing Comments: The deadline for filing comments on the settlement agreement is November 1, 2004.¹ Reply comments are due December 1, 2004.

¹ Comments on the settlement agreement may be combined or filed jointly with comments on the Commission's September 2004 draft Environmental Impact Statement for this proceeding, which presents staff's analysis of the settlement agreement. Those comments are also due on November 1, 2004.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments may be filed electronically via the Internet in lieu of paper. The Commission strongly encourages electronic filings. See 18 CFR 385.2001(a)(1)(iii) and the instructions on the Commission's Web site (http://www.ferc.gov) under the “e-Filing” link.

k. Pacific Gas and Electric Company filed the Settlement Agreement on behalf of itself and the U.S. Department of Agriculture Forest Service (FS), the California Department of Fish and Game, American Whitewater, Plumas County, Chico Paddleheads, Shasta Paddlers, Mountain Meadows Conservancy, and the California Sportfishing Protection Alliance. The purpose of the Settlement Agreement is to resolve among the signatories all lake level and streamflow issues for ecological purposes, river-based recreational uses, and other resolved subjects in support of FS issuing its recommended conditions and the Commission issuing a new project license. Water temperature issues and the term of license were not resolved by the Settlement Agreement.

l. A copy of the settlement agreement is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

Register online at http://www.ferc.gov/docs-filing/esubscription.asp to be notified via e-mail of new filings and issuances related to this or other pending projects. For assistance, contact FERC Online Support.

m. Procedural Schedule: The application will be processed according to the following Hydro Licensing Schedule. Revisions to the schedule will be made as appropriate.

Comments on DEIS and Settlement Agreement: November 1, 2004.

Notice of the Availability of the FEIS: April 2005.

Linda Mitry,
Acting Secretary.

[FR Doc. E4-2299 Filed 9-21-04; 8:45 am]

BILLING CODE 6717-01-P